DEPARTMENT OF TRANSPORTATION

Federal Aviation Administration

Environmental Desk Reference for Airport Actions

ACTION: Notice of availability.

SUMMARY: On May 18, 2006, the Federal Aviation Administration's Office of Airports (ARP) published a notice in the Federal Register. That Notice told interested parties about the availability of the Preamble for FAA Order 5050.4B, National Environmental Policy Act (NEPA) Implementing Instructions for Airport Actions (71 FR 29014). In that Preamble, ARP stated that it would prepare a desk reference to provide its staff and interested parties with information on integrating and complying with Federal environmental laws, regulations, and Executive Orders other than NEPA (71 FR 29015).

Today's Notice alerts interested parties that ARP has prepared the desk reference, entitled “Environmental Desk Reference for Airport Actions.” Interested parties may review a copy of the document at the following Web site: http://www.faa.gov/airports_airtraffic/airports/environmental/environmental_desk_ref/.

ARP will publish changes to the Desk Reference that may be needed to respond to changes in the laws, regulations, or Executive Orders the Desk Reference discusses.

FOR FURTHER INFORMATION CONTACT: Mr. Ed Melisky, Federal Aviation Administration, Office of Airports, Airport Planning and Environmental Division, 800 Independence Ave., SW., Washington, DC 209591; telephone: 202-267-5869. His e-mail is edward.meliksy@faa.gov.

Dated: October 12, 2007.
Benito DeLeon,
Director, Office of Airport Planning and Programming. APP-1.

[FR Doc. 07-5224 Filed 10-22-07; 8:45 am]

BILLING CODE 4910-13-M